DEPARTMENT OF HOMELAND SECURITY

Coast Guard

33 CFR Part 165

[CGD05-03-023]

RIN 1625-AA00

Safety and Security Zone; Cove Point Liquefied Natural Gas Terminal, Chesapeake Bay, MD

AGENCY: Coast Guard, DHS.

ACTION: Notice of proposed rulemaking; notice of public meeting; reopening of comment period.

SUMMARY: On March 20, 2003, the U.S. Coast Guard Captain of the Port, Baltimore (COTP) published a notice of proposed rulemaking for revising a safety and security zone for the Cove Point Liquefied Natural Gas Terminal. In response to that notice, the COTP received requests for a public meeting to discuss the proposed rule. In this notice, the COTP is announcing a public meeting to receive comments regarding the proposed safety and security zone and is reopening the comment period for this rulemaking.

DATES: The meeting will be held Thursday, June 5, 2003, from 6 p.m. to 9 p.m. Comments and related material must reach the Coast Guard on or before June 12, 2003.

ADDRESSES: The meeting location is: The Holiday Inn, 155 Holiday Drive, Solomon's Island, Maryland. You may mail comments and related material to Commander, U.S. Coast Guard Activities, 2401 Hawkins Point Road, Building 70, Port Safety, Security and Waterways Management Branch, Baltimore, Maryland, 21226-1791. The Port Safety, Security and Waterways Management Branch of Coast Guard Activities Baltimore maintains the public docket, CGD05-03-023, for this rulemaking. Comments and material received from the public, as well as documents indicated in this preamble as being available in the docket, will become part of this docket and will be available for inspection or copying at Commander, U.S. Coast Guard Activities, 2401 Hawkins Point Road, Building 70, Port Safety, Security and Waterways Management Branch, Baltimore, Maryland, 21226-1791 between 9 a.m. and 3 p.m., Monday through Friday, except Federal holidays.

FOR FURTHER INFORMATION CONTACT: Commander Gordon Loebl at U.S. Coast Guard Activities Baltimore (410) 576-2526.

SUPPLEMENTARY INFORMATION:

Background Information

On March 20, 2003, the Coast Guard published a notice of proposed rulemaking entitled “Safety and Security Zone; Cove Point Liquefied Natural Gas Terminal, Chesapeake Bay, Maryland. (68 FR 13647). The Coast Guard received several requests for public meetings before the comment period closed on April 21, 2003. The Captain of the Port has decided that a public meeting is in the public's interest and is therefore issuing this notice to advise the public of the time and place of the meeting, and of the reopening of the comment period.

Public Meeting

The public meeting will be held June 5, 2003, from 6 p.m. to 9 p.m., at the Holiday Inn, 155 Holiday Drive, Solomon's Island, Maryland. Attendance is open to the public. During this meeting, the Coast Guard will receive comments from the public on the proposed rule for the safety and security zone.

With advance notice, members of the public may provide oral statements. Oral statements will be limited to five minutes. Persons wishing to make oral statements should notify Commander Gordon Loebl listed under FOR FURTHER INFORMATION CONTACT no later than two days before the meeting.

Written comments may be submitted to the docket under ADDRESSES 30 minutes before, during, or up to one week after the meeting. You may also submit written comments directly to Coast Guard personnel at the public meeting.

Information on Services for Individuals With Disabilities

For information on facilities or services for individuals with disabilities, or to request assistance at the meeting, contact Commander Gordon Loebl listed under FOR FURTHER INFORMATION CONTACT as soon as possible.

Dated: May 5, 2003.
Roger B. Peoples,
Captain, Coast Guard, Captain of the Port, Baltimore, MD.

[FR Doc. 03-12050 Filed 5-14-03; 8:45 am]

BILLING CODE 4910-15-P